DEPARTMENT OF AGRICULTURE

Submission for OMB Review; Comment Request

The Department of Agriculture has submitted the following information collection requirement(s) to OMB for review and reinstatement under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 15, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Rural Energy for America Program.

OMB Control Number: 0570-0067.

Summary of Collection: The Rural Business-Cooperative Service (RBCS or the Agency), a Rural Development (RD) agency of the United States Department of Agriculture (USDA), administers the Rural Energy for America program (REAP). The REAP program helps agricultural producers and rural small business reduce energy cost and consumption, develop new income streams, and help meet the nation's critical energy needs. The REAP program is authorized under 7 U.S.C. 8107 and is implemented by 7 CFR part 4280 subpart B (grants) and 7 CFR part 5001 (guaranteed loans). The Inflation Reduction Act (IRA) of 2022 provides additional authorities for REAP Public Law 117-169 section 22002. Subtitle C, section 2202 of the IRA authorized the REAP Technical Assistance Grant (TAG) program.

Need and Use of the Information: Agricultural producers and rural small businesses that wish to apply for a RES/EEI, EA, or TAG grant will have to submit applications with specified forms or project proposal with specified information, certifications, and agreements to the Agency. This information will be used to determine applicant eligibility, project eligibility and technical merit, ensure that grantees operate on a sound basis and use funds for authorized purposes.

Description of Respondents: Business or other for-profit; Individuals; State, local government, or Tribal.

Number of Respondents: 4,615.

Frequency of Responses: Recordkeeping; Reporting: On occasion; Monthly; Annually.

Total Burden Hours: 258,643.

Levi S. Harrell,
Departmental Information Collection Clearance Officer.

[FR Doc. 2024-29516 Filed 12-13-24; 8:45 am]

BILLING CODE 3410-XY-P